DEPARTMENT OF STATE

[Public Notice 5407]

Shipping Coordinating Committee; Notice of Meeting

The Shipping Coordinating Committee (SHC) will conduct an open meeting at 10 a.m. on Tuesday, August 29, 2006, in Room 4236 of the Department of Transportation Headquarters, 400 Seventh Street, SW., Washington, DC 20590-0001. The primary purpose of the meeting is to prepare for the Eleventh Session of the International Maritime Organization (IMO) Sub-Committee on Dangerous Goods, Solid Cargoes and Containers to be held at the International Coffee Organization Headquarters in London, England from September 11 to September 15, 2006.

The primary matters to be considered include:

—Amendments to the International Maritime Dangerous Goods (IMDG) Code and Supplements including harmonization of the IMDG Code with the United Nations Recommendations on the Transport of Dangerous Goods.

—Amendments to the Code of Safe Practice for Solid Bulk Cargoes (BC Code) including evaluation of properties of solid bulk cargos and mandatory application of the BC Code.

—Casualty and incident reports and analysis.

—Measures to enhance maritime security.

—Guidance on serious structural deficiencies in containers; reporting procedure on serious structural deficiencies.

—Review of the Code of Safety for Special Purpose Ships (SPS Code).

—Amendments to the Code of Safe Practice for Cargo Stowage and Securing (CSS Code).

—Revision of the guidelines for the Transport and Handling of Limited Amounts of Hazardous and Noxious Liquid Substances in Bulk on Offshore Support Vessels (LHNS) and the guidelines for the Design and Construction of Offshore Supply Vessels (OSV).

—Extension of the Code of Practice for the Safe Unloading and Loading of Bulk Carriers (BLU Code) to include grain.

—Guidance on providing safe working conditions for securing of containers.

—Review of the Recommendations on the Safe Use of Pesticides in Ships.

—Application of requirements for dangerous goods in packaged form in SOLAS and the 2000 High Speed Craft (HSC) Code.

Members of the public may attend the meeting up to the seating capacity of the room. Interested persons may seek information by writing: Mr. R.C. Bornhorst, U.S. Coast Guard (G-PSO-3), Room 1210, 2100 Second Street, SW., Washington, DC 20593-0001 or by calling (202) 372-1426.

Dated: August 9, 2006.
Margaret Hayes,
Executive Secretary, Shipping Coordinating Committee, Department of State.

[FR Doc. E6-13679 Filed 8-17-06; 8:45 am]

BILLING CODE 4710-09-P